DEPARTMENT OF COMMERCE

International Trade Administration

[A-557-819]

Prestressed Concrete Steel Wire Strand From Malaysia: Final Results of Antidumping Duty Administrative Review; 2020-2022

AGENCY: Enforcement and Compliance, International Trade Administration, Department of Commerce.

SUMMARY: The U.S. Department of Commerce (Commerce) determines that prestressed concrete steel wire strand (PC strand) from Malaysia was not sold in the United States at less than normal value during the period of review (POR), November 19, 2020, through May 31, 2022.

DATES: Applicable January 3, 2024.

FOR FURTHER INFORMATION CONTACT: Miranda Bourdeau or Samuel Frost, AD/CVD Operations, Office V, Enforcement and Compliance, International Trade Administration, U.S. Department of Commerce, 1401 Constitution Avenue NW, Washington DC 20230; telephone: (202) 482-2021 or (202) 482-8180.

SUPPLEMENTARY INFORMATION:

Background

On July 7, 2023, Commerce published the preliminary results of this administrative review and invited parties to comment on the Preliminary Results.¹ This administrative review covers four producers/exporters of PC strand from Malaysia.² Commerce selected two respondents for individual examination, Kiswire Sdn. Bhd. (KSB) and Wei Dat Steel Wire Sdn. Bhd. (Wei Dat).³ Commerce extended the time period for issuing the final results until December 29, 2023.⁴ For a complete description of the events that occurred since the Preliminary Results, see the Issues and Decision Memorandum.⁵

¹ See Prestressed Concrete Steel Wire Strand from Malaysia: Preliminary Results of Antidumping Duty Administrative Review, 2020-2022, 88 FR 43284 (July 7, 2023) (Preliminary Results), and accompanying Preliminary Decision Memorandum (PDM).

² See Initiation of Antidumping and Countervailing Duty Administrative Reviews, 87 FR 48459 (August 9, 2022) (Initiation Notice). Although there are five entities listed in the Initiation Notice, one of these entities (i.e., Kiswire Sdn. Bhd. (Kota Kiswire)) is part of another exporter/producer under review. For further details, see the Preliminary Results PDM at footnote 4.

³ See Memorandum, “Respondent Selection,” dated August 26, 2022.

⁴ See Memoranda, “Extension of Deadline for Final Results of Antidumping Duty Administrative Review, 2020-2022,” dated October 20, 2023; and “Extension of Deadline for Final Results of Antidumping Duty Administrative Review, 2020-2022,” dated December 15, 2023.

⁵ See Memorandum, “Issues and Decision Memorandum for the Final Results of the Administrative Review of the Antidumping Duty Order on Prestressed Concrete Steel Wire Strand from Malaysia; 2020-2022,” dated concurrently with, and hereby adopted by, this notice (Issues and Decision Memorandum).

Commerce conducted this administrative review in accordance with section 751 of the Tariff Act of 1930, as amended (the Act).

Scope of the Order ⁶

⁶ See Prestressed Concrete Steel Wire Strand from Indonesia, Italy, Malaysia, South Africa, Spain, Tunisia, and Ukraine: Antidumping Duty Orders, 86 FR 29998 (June 4, 2021) (Order).

The product covered by this Order is PC strand from Malaysia. For a full description of the scope of the Order, see the Issues and Decision Memorandum.

Analysis of Comments Received

All issues raised in the case and rebuttal briefs are addressed in the Issues and Decision Memorandum. A list of the issues that parties raised, and to which we responded in the Issues and Decision Memorandum, is attached as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on a review of the record and comments received from interested parties, we made certain adjustments to the margin calculations for these final results. However, those adjustments did not result in any changes to the estimated weighted-average dumping margins for KSB or Wei Dat. For a more detailed discussion of these changes, see the Issues and Decision Memorandum.

Rate for Non-Examined Companies

The Act and Commerce's regulations do not address the establishment of a rate to be applied to companies not selected for examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted average of the estimated weighted-average dumping margins established for exporters and producers individually investigated, excluding any zero and de minimis margins, and any margins determined entirely {on the basis of facts available}.”

Where the dumping margin for individually examined respondents are all zero, de minimis, or based entirely on facts available, section 735(c)(5)(B) of the Act provides that Commerce may use “any reasonable method to establish the estimated all-others rate for exporters and producers not individually investigated, including averaging the estimated weighted average dumping margins determined for the exporters and producers individually investigated.”

In this review, we calculated weighted-average dumping margins for KSB and Wei Dat that are zero. Therefore, consistent with section 735(c)(5)(B) of the Act, we are applying to Southern Steel Sdn. Bhd. and Southern PC Steel Sdn. Bhd., the two companies not selected for individual examination in this review, a margin of zero percent.

Final Results of Review

Commerce determines that the following estimated weighted-average dumping margins exist for the period November 19, 2020, through May 31, 2022:

Exporter/producer | Weighted- average dumping margin (percent)
Kiswire Sdn. Bhd | 0.00
Wei Dat Steel Wire Sdn. Bhd | 0.00
Review-Specific Rate Applicable to the Following Non-Examined Companies
Southern Steel Sdn. Bhd | 0.00
Southern PC Steel Sdn. Bhd | 0.00

Disclosure

Commerce intends to disclose the calculations performed in connection with these final results to interested parties within five days of any public announcement or, if there is no public announcement, within five days of the date of publication of the notice of final results in the Federal Register.⁷

⁷ See 19 CFR 351.224(b).

Assessment Rates

Pursuant to section 751(a)(2)(C) of the Act, and 19 CFR 351.212(b)(1), Commerce has determined, and U.S. Customs and Border Protection (CBP) shall assess, antidumping duties on all appropriate entries covered by this review. Where the respondent's weighted-average dumping margin is either zero or de minimis (i.e., less than 0.5 percent), we will instruct CBP to liquidate the appropriate entries without regard to antidumping duties. Accordingly, because KSB's and Wei Dat's weighted-average dumping margins are zero percent, we will instruct CBP to liquidate the appropriate entries without regard to antidumping duties. For entries of subject merchandise during the POR produced by KSB or Wei Dat for which these companies did not know the merchandise was destined for the United States, we will instruct CBP to liquidate unreviewed entries at the all-others rate (i.e., 5.13 percent) ⁸ if there is no rate for the intermediate company(ies) involved in the transaction.⁹ For the companies which were not selected for individual review, Southern Steel Sdn. Bhd. and Southern PC Steel Sdn. Bhd., we will assign an assessment rate based on the methodology described in the “Rates for Non-Examined Companies” section, above.

⁸ See Order, 86 FR at 30000.

⁹ For a full discussion of this practice, see Antidumping and Countervailing Duty Proceedings: Assessment of Antidumping Duties, 68 FR 23954 (May 6, 2003).

We intend to instruct CBP to take into account the “provisional measures deposit cap,” in accordance with 19 CFR 351.212(d). Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) the cash deposit rate for the companies listed in these final results will be equal to the weighted-average dumping margins established in the final results of this administrative review; (2) for merchandise exported by producers or exporters not covered in this administrative review but covered in a prior segment of the proceeding, the cash deposit rate will continue to be the company-specific rate published for the most recently completed segment of this proceeding; and (3) the cash deposit rate for all other manufacturers or exporters will continue to be 5.13 percent, the all-others rate established in the less-than-fair-value investigation.¹⁰ These cash deposit requirements, when imposed, shall remain in effect until further notice.

¹⁰ See Order, 86 FR at 30000.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice also serves as a final reminder to parties subject to an administrative protective order (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Notification to Interested Parties

We are issuing and publishing these final results in accordance with sections 751(a)(1) and 777(i)(1) of the Act, and 19 CFR 351.221(b)(5) and 19 CFR 351.213(h)(2).

Dated: December 27, 2023.
Abdelali Elouaradia,
Deputy Assistant Secretary for Enforcement and Compliance.

Appendix

List of Topics Discussed in the Issues and Decision Memorandum

I. Summary

II. Background

III. Scope of the Order

IV. Changes Since the Preliminary Results

V. Discussion of the Issues

Comment 1: Whether Commerce Should Apply Total Adverse Facts Available (AFA) to KSB for Failing to Fully Disclose its Affiliations

Comment 2: Whether Commerce Should Rely on Annual or Quarterly Weighted-Average Costs for KSB

Comment 3: Whether Commerce Should Allow KSB's Reported Scrap Offset

Comment 4: Whether Certain of KSB's Home Market Sales Are Fictitious

Comment 5: Whether Commerce Should Compare KSB's Reported Home and U.S. Market Sales Using the Full 90/60 Day Window Period

Comment 6: Whether Commerce Should Reject the Petitioners' Case Brief

VI. Recommendation

[FR Doc. 2023-28932 Filed 1-2-24; 8:45 am]

BILLING CODE 3510-DS-P